DEPARTMENT OF COMMERCE

National Oceanic and Atmospheric Administration

50 CFR Part 660

[Docket No. 130405338-4201-01]

RIN 0648-BC84

Fisheries off West Coast States; Pacific Coast Groundfish Fishery Management Plan; Trawl Rationalization Program; Chafing Gear Modifications; Correction

AGENCY: National Marine Fisheries Service (NMFS), National Oceanic and Atmospheric Administration (NOAA), Commerce.

ACTION: Proposed rule; request for comments; correction.

SUMMARY: On March 19, 2014, NMFS published a proposed rule in the Federal Register to modify chafing gear restrictions for midwater trawl in the Pacific Coast Groundfish Fishery. The identification number for submitting comments listed in the ADDRESSES heading section of the rule is being corrected.

DATES: This correction is effective April 4, 2014. Comments on this proposed rule must be received no later than 5 p.m., local time on April 18, 2014. During the comment period, NMFS is specifically seeking comments on the proposed method of attachment for chafing gear, including the benefits and effects relative to current minimum mesh size restrictions and prohibition on double walled codends.

ADDRESSES: You may submit comments on the proposed rule, identified by NOAA-NMFS-2014-0028, by any of the following methods:

• Electronic Submissions: Submit all electronic public comments via the Federal e-Rulemaking Portal. Go to www.regulations.gov/#!docketDetail;D=NOAA-NMFS-2014-0028, click the “Comment Now!” icon, complete the required fields, and enter or attach your comments.

• Fax: 206-526-6736; Attn: Becky Renko.

• Mail: William W. Stelle, Jr., Regional Administrator, West Coast Region, NMFS, 7600 Sand Point Way NE., Seattle, WA 98115-0070; Attn: Becky Renko.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Becky Renko, 206-526-6110; (fax) 206-526-6736; Becky.Renko@noaa.gov.

SUPPLEMENTARY INFORMATION:

Need for Correction

In the Federal Register of March 19, 2014, in FR Doc. 2014-06058, on page 15296, please make the following corrections: Under the ADDRESSES heading, in the first sentence and in the text following the first bullet point, please remove “NOAA-NMFS-2012-0218” and replace it with “NOAA-NMFS-2014-0028.”

Dated: March 28, 2014.
Samuel D. Rauch III,
Deputy Assistant Administrator for Regulatory Programs, National Marine Fisheries Service.

[FR Doc. 2014-07468 Filed 4-3-14; 8:45 am]

BILLING CODE 3510-22-P